FEDERAL MARITIME COMMISSION

46 CFR Part 540

[Docket No. 02-15]

Passenger Vessel Financial Responsibility

AGENCY: Federal Maritime Commission.

ACTION: Notice of proposed rulemaking; extension of time; submission of oral comments; public hearing.

SUMMARY: The Commission has determined to extend the comment period in this matter, and to provide interested persons with the opportunity to make oral presentations to individual Commissioners and at a public hearing before the full Commission.

DATES: Comments are now due on May 30, 2003.

ADDRESSES: Address all comments and inquiries concerning this proposed rule to: Bryant L. VanBrakle, Secretary, Federal Maritime Commission, 800 North Capitol Street, NW., Room 1046, Washington, DC 20573-0001. (202) 523-5725. E-mail: secretary@fmc.gov.

FOR FURTHER INFORMATION CONTACT: Amy W. Larson, Acting General Counsel, Federal Maritime Commission, 800 North Capitol Street, NW., Room 1018, Washington, DC 20573-0001. (202) 523-5740. E-mail: generalcounsel@fmc.gov.

SUPPLEMENTARY INFORMATION: Pursuant to rule 53(a) of the Commission's rules of practice and procedure, 46 CFR 502.53(a)(2002), in notice-and-comment rulemakings the Commission may permit interested persons to make oral presentations in addition to filing written comments. The Commission has determined to permit interested persons to make such presentations to individual Commissioners in this proceeding, and additionally to hold a public hearing before the full Commission.

At the discretion of individual Commissionaries, interested persons request one-on-one meetings at which they may make presentations describing their views on the proposed rule. Any meeting or meetings shall be completed before the close of the comment period. The summary or transcript of oral presentations will be included in the record and must be submitted to the Secretary of the Commission within 5 days of the meeting. Interested persons wishing to make an oral presentation should contact the Office of the Secretary to secure contact names and numbers for individual Commissioners.

The Commission has also determined to hold a public hearing, at which interested parties may make presentations and field questions from the Commissioners. The date and time of the hearing will be set forth in a subsequent order.

Finally, the deadline for filing comments is extended to May 30, 2003.

By the Commission. *
* Commissioner Brennan, concurring in part and disenting in part: A public hearing is far better public policy, in my view, than closed-door meetings with interested parties, when one is considering a substantial rule change. While I support the decision to extend the comment period and to hold a public hearing, I dissent as to the matter of one-on-one presentations, the need for which is obviated by a public hearing.
Bryant L. VanBrakle,
Secretary.

[FR Doc. 03-8611 Filed 4-4-03; 9:29 am]

BILLING CODE 6730-01-M